DEPARTMENT OF TRANSPORTATION

Federal Highway Administration

Environmental Impact Statement; Otter Tail and Wadena Counties, Minnesota

AGENCY: Federal Highway Administration (FHWA), DOT.

ACTION: Notice of intent.

SUMMARY: The FHWA is issuing this notice to advise the public that an environmental impact statement (EIS) will be prepared for proposed highway improvements to Trunk Highway (TH) 10 from Bluffton to 1.5 miles east of Wadena in Otter Tail and Wadena Counties, Minnesota.

FOR FURTHER INFORMATION CONTACT: Cheryl Martin, Federal Highway Administration, Galtier Plaza, 380 Jackson Street, Suite 500, St. Paul, Minnesota 55101, Telephone (651) 291-6120; or Lori Vanderhider, Project Management Engineer, Minnesota Department of Transportation—District 4, 1000 Trunk Highway 10 West, Detroit Lakes, Minnesota 56501, Telephone (218) 847-1512; (651) 296-9930 TTY.

SUPPLEMENTARY INFORMATION: The FHWA, in cooperation with the Minnesota Department of Transportation, will prepare an EIS on a proposal to improve TH 10 from Bluffton, in Ottertail County, to approximately 1.5 miles east of Wadena, in Wadena County, Minnesota, a distance of approximately 6.5 miles. The proposed action is being considered to address future transportation demand, safety problems, access management, interregional corridor status, and system continuity. Alternatives under consideration include (1) No-Build (2) variations of “Build” alternatives involving reconstruction and/or realignment and new construction of TH 10 (3) “Build” alternative involving improvements along the existing alignment of TH 10.

The “Trunk Highway 10 Scoping Document/Draft Scoping Decision Document” will be published in 2003 and 2004. A press release will be published to inform the public of the document's availability. Copies of the Scoping Document will be distributed to agencies, interested persons and libraries for review to aid in identifying issues and analyses to be contained in the EIS. A thirty-day comment period for review of the document will be provided to afford an opportunity for all interested persons, agencies and groups to comment on the proposed action. A public scoping meeting will also be held during the comment period. Public notice will be given for the time and place of the meeting.

A Draft EIS will be prepared based on the outcome of the scoping process. The Draft EIS will be available for agency and public review and comment. In addition, a public hearing will be held following completion of the Draft EIS. Public Notice will be given for the time and place of the public hearing on the Draft EIS.

Coordination has been initiated and will continue with appropriate Federal, State and local agencies and private organizations and citizens who have previously expressed or are known to have an interest in the proposed action. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: March 14, 2003.
Stanley M. Graczyk,
Project Development Engineer, Federal Highway Administration, St. Paul Minnesota.

[FR Doc. 03-7350 Filed 3-26-03; 8:45 am]

BILLING CODE 4910-22-M